NATIONAL AERONAUTICS AND SPACE ADMINISTRATION

[Notice (05-169)]

Notice of Prospective Patent License

AGENCY: National Aeronautics and Space Administration.

ACTION: Notice of prospective patent license.

SUMMARY: NASA hereby gives notice that Exploration Partners, LLC., of Austin, Texas, has applied for an exclusive license to practice the inventions disclosed in U.S. Patent Nos. 6,164,060 entitled Combustion Chamber/Nozzle Assembly And Fabrication Process Therefrom, 6,308,408 entitled Combustion Chamber/Nozzle Assembly And Fabrication Process Therefrom, 6,195,984 entitled Rocket Engine Thrust Chamber Assembly, 6,330,792 entitled Method Of Making A Rocket Engine Thrust Chamber Assembly, 6,116,020 entitled Injector For Liquid Fueled Rocket Engine, 6,189,315 entitled Low-Cost Gas Generator And Ignitor, 6,497,091 entitled Hypergolic Ignitor Assembly, 6,845,605 entitled Hypergolic Ignitor and 6,860,099 entitled Liquid Propellant Tracing Impingement Injector. Written objections to the prospective grant of a license should be sent to Mr. James J. McGroary, Chief Patent Counsel/LS01, Marshall Space Flight Center, Huntsville, AL 35812. NASA has not yet made a determination to grant the requested license and may deny the requested license even if no objections are submitted within the comment period.

DATES: Responses to this notice must be received by December 27, 2005.

FOR FURTHER INFORMATION CONTACT: Sammy A. Nabors, Technology Transfer Department/ED03, Marshall Space Flight Center, Huntsville, AL 35812, (256) 544-5226.

Dated: December 5, 2005.
Keith T. Sefton,
Deputy General Counsel, Administration & Management.

[FR Doc. E5-7160 Filed 12-8-05; 8:45 am]

BILLING CODE 7510-13-P